DEPARTMENT OF HEALTH AND HUMAN SERVICES

Health Resources and Services Administration

Ryan White HIV/AIDS Program, Special Projects of National Significance (SPNS), the Albert Einstein College of Medicine, Enhancing Access to and Retention in Quality HIV Care for Women of Color Initiative

AGENCY: Health Resources and Services Administration (HRSA), Department of Health and Human Services (HHS).

ACTION: Notice of a deviation from competition requirements to award a program expansion supplement for the HIV/AIDS Bureau's (HAB's) Ryan White HIV/AIDS Program, Special Projects of National Significance (SPNS), the Albert Einstein College of Medicine, Enhancing Access to and Retention in Quality HIV Care for Women of Color Initiative.

SUMMARY: HRSA will be issuing a non-competitive award under the SPNS Program to current grantee, the Albert Einstein College of Medicine (Grant #5 H97HA15152-05-00), for approximately $55,000 during the budget period September 1, 2014, to August 31, 2015. This will allow the Albert Einstein College of Medicine to cover the costs associated with the publication of a special supplemental issue of the journal AIDS Patient Care and STD's, which will feature eight articles on findings from the Special Projects of National Significance (SPNS) Program Enhancing Access to and Retention in Quality HIV Care for Women of Color Initiative. A program expansion supplement will allow SPNS wider dissemination of the most current best practices and lessons learned for the care of women of color living with HIV. The journal AIDS Patient Care and STD's has a combined 18,200 print and online subscribers, and the publisher will also extend online distribution to readers of the Journal of Women's Health (approximately 32,000 additional subscribers) and to attendees of the Congress on Women's Health (approximately 800 physicians and nurses).

SUPPLEMENTARY INFORMATION: Intended Recipient of the Award: Albert Einstein College of Medicine (Grant #5 H97HA15152-05-00). The amount of the noncompetitive award is $55,000.

Authority: Section 2692 of the Public Health Service Act, 42, U.S.C. 300ff-111.

CFDA Number: 93.145.

Period of Supplemental Funding: September 1, 2014, through August 31, 2015.

Justification: SPNS Program is charged with the development of innovative models of HIV treatment, in order to respond to emerging needs of those with HIV/AIDS, including clients served by the Ryan White HIV/AIDS Program. A major goal of the SPNS Program is to disseminate findings and innovative models of care and treatment to the broader HIV provider community and encourage replication of successful models/interventions.

The SPNS Women of Color Initiative began September 1, 2009, and involved 11 demonstration site grantees and an Evaluation and Technical Assistance Center—the Albert Einstein College of Medicine. The Initiative enrolled 921 women of color living with HIV/AIDS in its multi-site evaluation; the findings from this initiative can improve the care of women living with HIV through the identification of best practices and lessons learned. The Albert Einstein College of Medicine has served as the Evaluation and Technical Assistance Center for the SPNS Women of Color Initiative from September 1, 2009, to the present. As such, this grantee has been tasked to lead and coordinate all dissemination activities for this initiative, and is best-positioned to lead and facilitate the publication process. This program expansion would allow for the publication of findings from the Women of Color Initiative in the journal of AIDS Patient Care and STD's in support of HRSA's and HAB's commitment to ensuring that comprehensive and effective models of care and treatment are available to underserved, un/under-insured populations, including those from communities of color.

FOR FURTHER INFORMATION CONTACT: Adan Cajina, MSc, Branch Chief, Special Programs of National Significance (SPNS), Division of Training and Capacity Development, HAB/HRSA, 5600 Fishers Lane, Rockville, Maryland 20857, by email at acajina@hrsa.gov, or by phone at (301) 443-3180.

Dated: August 27, 2014.
Mary K. Wakefield,
Administrator.

[FR Doc. 2014-21011 Filed 9-3-14; 8:45 am]

BILLING CODE 4165-15-P